Proclamation 10825 of September 30, 2024

National Disability Employment Awareness Month, 2024

By the President of the United States of America

A Proclamation

America's economy is stronger when every American has an opportunity to thrive and contribute meaningfully. During National Disability Employment Awareness Month, we honor the incredible contributions of disabled Americans to our country and economy. And we recommit to opening the doors of opportunity wider for people with disabilities, making our Nation more equal, accessible, and fair.

Not too long ago, a person with a disability in America could be denied employment because of their disability. They could even be denied access to public spaces and basic needs like service in a restaurant or a grocery store. One of my early acts as a United States Senator was co-sponsoring the Rehabilitation Act. It was the first time in our Nation's history that we declared in law what we knew to be true: that Americans with disabilities deserve dignity, respect, and an equal chance at the American Dream. The Rehabilitation Act is one of the most consequential civil rights laws in our Nation's history, banning discrimination on the basis of disability by any entity the Federal Government funds.

The Rehabilitation Act laid the groundwork for another landmark law: the Americans with Disabilities Act. I was enormously proud to co-sponsor that bill and remain even prouder of its lasting legacy today. For more than 61 million Americans living with a disability, these laws are a source of opportunity, meaningful inclusion, participation, respect, and—as my dad would say—dignity. And in the Obama-Biden Administration, we built on the lasting legacy of these laws by setting hiring goals in Federal contracts for people with disabilities, which we have upheld and continued to pursue in the Biden-Harris Administration.

My Administration is committed to ensuring people with disabilities have access to good jobs. In my first few months in office, I signed an Executive Order establishing a Government-wide commitment to advancing equality and equity in Federal employment, including for people with disabilities. It brought together the Department of Labor, the Equal Employment Opportunity Commission, and the Office of Personnel Management to ensure that Federal workplaces are fully accessible to people with disabilities so that the dignity and rights of disabled Americans are lifted in every policy we pursue. That includes making sure our Nation's largest employer—the Federal Government—is the model for fair, accessible, and decent practices in the workplace. This Executive Order directs agencies to address the challenges faced by job applicants and employees with disabilities. Additionally, the General Services Administration adopted the United States Access Board's new guidelines to ensure people with disabilities have access to the over 300,000 Federal Government buildings. Furthermore, my Administration ended the use of unfair subminimum wages in Federal contracts—no longer will employers be permitted to pay workers with disabilities less than minimum wage through the AbilityOne Federal contracting program. And the Department of Labor has launched a comprehensive review of the subminimum wage program. We are working to increase hiring for people with disabilities in every sector—from helping State and local governments, businesses, and nonprofits access Federal funds to hire more disabled Americans to appointing people with disabilities to positions in my Administration.

My Administration is also strengthening our Nation's infrastructure and making it more accessible so that people with disabilities have no problems commuting to work or other places. My Bipartisan Infrastructure Law makes the biggest investment ever—$1.75 billion—to expand accessibility in transit and rail stations. It also includes $65 billion to expand access to high-speed internet so more disabled Americans can work, study, and stay connected from home. Further, the Department of Justice finalized standards for State and local governments to make their internet content and mobile apps more accessible so that digital workplaces are accessible to disabled Americans.

During National Disability Employment Awareness Month, we celebrate the talent, impact, and legacy of people with disabilities across our Nation by working to make our country stronger, more prosperous, and more just. And we recommit to ensuring people with disabilities have every opportunity to pursue the American Dream.

NOW, THEREFORE, I, JOSEPH R. BIDEN JR., President of the United States of America, by virtue of the authority vested in me by the Constitution and the laws of the United States, do hereby proclaim October 2024 as National Disability Employment Awareness Month. I urge all Americans to embrace the talents and skills of workers with disabilities and to promote the right to equal employment opportunity for all.

IN WITNESS WHEREOF, I have hereunto set my hand this thirtieth day of September, in the year of our Lord two thousand twenty-four, and of the Independence of the United States of America the two hundred and forty-ninth.

[FR Doc. 2024-22992

Filed 10-2-24; 8:45 am]

Billing code 3395-F4-P